DEPARTMENT OF COMMERCE

National Oceanic and Atmospheric Administration

[RTID 0648-XC178]

Endangered and Threatened Species; Take of Anadromous Fish

AGENCY: National Marine Fisheries Service (NMFS), National Oceanic and Atmospheric Administration (NOAA), Commerce.

ACTION: Notice of determination for a Tribal Resource Management Plan.

SUMMARY: Notice is hereby given that the NMFS made a determination on the Tribal Resource Management Plan (Tribal Plan) submitted by the Northwest Indian Fisheries Commission (NWIFC) on behalf of the Northwest Indian Tribes; the submission fulfills the Tribes' obligations under the protective regulations promulgated for Puget Sound (PS) Chinook salmon, Hood Canal summer-run (HCS) chum salmon, PS steelhead, and Southern (S) eulachon under the Endangered Species Act (ESA). The Tribal Plan describes research and assessment activities that may affect listed PS Chinook salmon, HCS chum salmon, PS steelhead, and S eulachon in Washington State. The research included in the Tribal plan is intended to increase knowledge of species listed under the ESA and to help guide management and conservation efforts. NMFS completed a proposed evaluation of how well the Tribal Plan fulfills ESA criteria, and the Secretary of Commerce (Secretary) made the proposed evaluation available for public comment.

FOR FURTHER INFORMATION CONTACT: Shivonne Nesbit, Portland, OR (Ph: 503-231-6741, email: shivonne.nesbit@noaa.gov).

SUPPLEMENTARY INFORMATION:

Species Covered in This Notice

The following listed species are covered in this notice:

Chinook salmon (Oncorhynchus tshawytscha): Threatened Puget Sound (PS).

Chum salmon (O. keta): Threatened Hood Canal Summer-run (HCS).

Steelhead (O. mykiss): Threatened (PS).

Eulachon (Thaleichthys pacificus): Threatened southern distinct population segment (SDPS).

Authority

Under section 4 of the ESA, the Secretary is required to adopt such regulations as he deems necessary and advisable for the conservation of the species listed as threatened. The ESA Tribal 4(d) rule (70 FR 37160; June 28, 2005) states that the ESA section 9 take prohibitions do not apply to Tribal Plans that will not appreciably reduce the likelihood of survival and recovery for the listed species.

Summary of Comments Received

NMFS published notice of its proposed evaluation on the Tribal Plan April 11, 2022 (84 FR 33062). The proposed evaluation was available for public review and comment for 30 days. No comments were received.

The Tribal Plan

The NWIFC—through the Bureau of Indian Affairs and on behalf of the Northwest Indian Tribes—submitted a Tribal Plan for scientific research and assessment activities within the range of the PS Chinook salmon, HCS chum salmon, PS steelhead, and SDPS eulachon. The Northwest Indian Tribes conduct, independently and in cooperation with other agencies, a variety of research and assessment projects. These projects provide the technical basis for managing fisheries and conserving and restoring salmon stocks and their habitat. The need for an improved understanding of salmonid survival in the freshwater and early marine life stages drives much of the current research. The Tribal Plan includes implementation, monitoring, and evaluation procedures designed to ensure that the research is consistent with the objectives of the ESA. The research activities described in the Tribal Plan would take place over a 5 year period starting in 2022.

As 50 CFR 223.209 requires, the Secretary must determine whether the activities proposed in the Tribal Plan would appreciably reduce the likelihood of survival and recovery for PS Chinook salmon, HCS chum salmon, PS steelhead, and SDPS eulachon. NMFS' final determination is that the Tribal Plan will not appreciably reduce the listed species' likelihood of survival and recovery. This determination is consistent with NMFS' obligation to conserve listed species under the ESA and to meet trust obligations to Indian Tribes. The Tribal Plan would sufficiently conserve the listed species and therefore take prohibitions would not apply to the research activities governed by the Tribal Plan.

Dated: July 20, 2022.
Angela Somma,
Chief, Endangered Species Division, Office of Protected Resources, National Marine Fisheries Service.

[FR Doc. 2022-15861 Filed 7-22-22; 8:45 am]

BILLING CODE 3510-22-P